DEPARTMENT OF THE INTERIOR

Fish and Wildlife Service

50 CFR Part 32

[Docket No. FWS-HQ-NWRS-2022-0055; FXRS12610900000-223-FF09R20000]

RIN 1018-BF66

2022-2023 Station-Specific Hunting and Sport Fishing Regulations

AGENCY: Fish and Wildlife Service, Interior.

ACTION: Proposed rule.

SUMMARY: Consistent with the steadfast commitment to access to our National Wildlife Refuges and continued efforts to provide hunting and fishing opportunities, we, the U.S. Fish and Wildlife Service (Service), propose to open, for the first time, two National Wildlife Refuges (NWRs) that are currently closed to hunting and sport fishing. In addition, we propose to open or expand hunting or sport fishing at 17 other NWRs and add pertinent station-specific regulations for other NWRs that pertain to migratory game bird hunting, upland game hunting, big game hunting, or sport fishing for the 2022-2023 season. We also propose to make changes to existing station-specific regulations in order to reduce the regulatory burden on the public, increase access for hunters and anglers on Service lands and waters, and comply with a Presidential mandate for plain language standards. Finally, the best available science, analyzed as part of this proposed rulemaking, indicates that lead ammunition and tackle may have negative impacts on both wildlife and human health, and that those impacts are more acute for some species. Therefore, while the Service continues to evaluate the future of lead use in hunting and fishing on Service lands and waters, this rulemaking provides a measured approach in not adding to the use of lead on refuge lands. The Service will seek input from partners in methods to address the use of lead and commits to a transparent process in doing so.

DATES:

Written comments: We will accept comments received or postmarked on or before August 8, 2022.

Information collection requirements: If you wish to comment on the information collection requirements in this proposed rule, please note that the Office of Management and Budget (OMB) is required to make a decision concerning the collection of information contained in this proposed rule between 30 and 60 days after publication of this proposed rule in the Federal Register. Therefore, comments should be submitted to OMB by August 8, 2022.

ADDRESSES:

Written comments: You may submit comments by one of the following methods:

• Electronically: Go to the Federal eRulemaking Portal: https://www.regulations.gov. In the Search box, type in FWS-HQ-NWRS-2022-0055, which is the docket number for this rulemaking. Then, click on the Search button. On the resulting screen, find the correct document and submit a comment by clicking on “Comment.”

• By hard copy: Submit by U.S. mail or hand delivery: Public Comments Processing, Attn: FWS-HQ-NWRS-2022-0055, U.S. Fish and Wildlife Service, 5275 Leesburg Pike, MS: PRB (JAO/3W), Falls Church, VA 22041-3803.

We will not accept email or faxes. We will post all comments on https://www.regulations.gov. This generally means that we will post any personal information you provide us (see Request for Comments, below, for more information).

Information collection requirements: Written comments and suggestions on the information collection requirements should be submitted by the date specified above in DATES to https://www.reginfo.gov/public/do/PRAMain. Find this particular information collection by selecting “Currently under Review—Open for Public Comments” or by using the search function. Please provide a copy of your comments to Service Information Collection Clearance Officer, U.S. Fish and Wildlife Service, 5275 Leesburg Pike, MS: PRB (JAO/3W), Falls Church, VA 22041-3803 (mail); or Info_Coll@fws.gov (email). Please reference OMB Control Number 1018-0140 in the subject line of your comments.

Supporting documents: For information on a specific refuge's or hatchery's public use program and the conditions that apply to it, contact the respective regional office at the address or phone number given in Available Information for Specific Stations under SUPPLEMENTARY INFORMATION.

FOR FURTHER INFORMATION CONTACT: Kate Harrigan, (703) 358-2440.

SUPPLEMENTARY INFORMATION:

Background

The National Wildlife Refuge System Administration Act of 1966 (16 U.S.C. 668dd-668ee), as amended (Administration Act), closes NWRs in all States except Alaska to all uses until opened. The Secretary of the Interior (Secretary) may open refuge areas to any use, including hunting and/or sport fishing, upon a determination that the use is compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Service's mission.

Provisions governing hunting and sport fishing on refuges are in title 50 of the Code of Federal Regulations at part 32 (50 CFR part 32), and on hatcheries at part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate in meeting these objectives. On other stations, we must supplement State regulations with more-restrictive Federal regulations to ensure that we meet our management responsibilities, as outlined under Statutory Authority, below. We issue station-specific hunting and sport fishing regulations when we open wildlife refuges and fish hatcheries to migratory game bird hunting, upland game hunting, big game hunting, or sport fishing. These regulations may list the wildlife species that you may hunt or fish; seasons; bag or creel (container for carrying fish) limits; methods of hunting or sport fishing; descriptions of areas open to hunting or sport fishing; and other provisions as appropriate.

Statutory Authority

The Administration Act, as amended by the National Wildlife Refuge System Improvement Act of 1997 (Improvement Act; Pub. L. 105-57), governs the administration and public use of refuges, and the Refuge Recreation Act of 1962 (16 U.S.C. 460k-460k-4) (Recreation Act) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges to the lists of areas open to hunting and sport fishing in 50 CFR parts 32 and 71. We ensure continued compliance by the development of comprehensive conservation plans and step-down management plans, and by annual review of hunting and sport fishing programs and regulations.

Proposed Amendments to Existing Regulations

Updates to Hunting and Fishing Opportunities on NWRs

This document proposes to codify in the Code of Federal Regulations all of the Service's hunting and/or sport fishing regulations that we would update since the last time we published a rule amending these regulations (86 FR 48822; August 31, 2021) and that are applicable at Refuge System units previously opened to hunting and/or sport fishing. We propose this to better inform the general public of the regulations at each station, to increase understanding and compliance with these regulations, and to make enforcement of these regulations more efficient. In addition to now finding these regulations in 50 CFR parts 32, visitors to our stations may find them reiterated in literature distributed by each station or posted on signs.

Table 1—Proposed Changes for 2022-2023 Hunting/Sport Fishing Season
Station | State | Migratory bird hunting | Upland game hunting | Big game hunting | Sport fishing
Baskett Slough NWR | Oregon | E | Closed | Closed | Closed.
Blackwater NWR | Maryland | E | O | E | Already Open.
Canaan Valley NWR | West Virginia | Already Open | Already Open | E | Already Open.
Chincoteague NWR | Virginia | O | O | O/E | Already Open.
Crab Orchard NWR | Illinois | E | Already Open | Already Open | Already Open.
Eastern Neck NWR | Maryland | Closed | O | E | Already Open.
Erie NWR | Pennsylvania | O | O | O | E.
Ernest F. Hollings ACE Basin NWR | South Carolina | Already Open | Closed | E | Already Open.
Great Thicket NWR | New York/Maine | O | O | O | Closed.
James River NWR | Virginia | O | Already Open | Already Open | Already Open.
Patoka River NWR and Management Area | Indiana | E | E | E | E.
Patuxent Research Refuge | Maryland | E | E | E | Already Open.
Rachel Carson NWR | Maine | Already Open | C | E | Already Open.
Rappahannock River Valley NWR | Virginia | O | Already Open | Already Open | Already Open.
San Diego NWR | California | Closed | O | O | Closed.
Shawangunk Grasslands NWR | New York | Closed | Closed | O/E | Closed.
Trustom Pond NWR | Rhode Island | Already Open | O | O | Already Open.
Turnbull NWR | Washington | Already Open | Closed | O | Closed.
Wallops Island NWR | Virginia | O | O | O | Closed.
Key:
N = New station opened (New Station).
O = New species and/or new activity on a station previously open to other activities (Opening).
E = Station already open to activity adds new lands/waters, modifies areas open to hunting or fishing, extends season dates, adds a targeted hunt, modifies season dates, modifies hunting hours, etc. (Expansion).
C = Station closing certain species or the activity on some or all acres (Closing).

The changes for the 2022-2023 hunting/fishing season noted in the table above are each based on a complete administrative record which, among other detailed documentation, also includes a hunt plan, a compatibility determination (for refuges), and the appropriate National Environmental Policy Act (NEPA; 42 U.S.C. 4321 et seq.) analysis, all of which were the subject of a public review and comment process. These documents are available upon request.

The Service remains concerned that lead is an important issue and will continue to appropriately evaluate and regulate lead ammunition and tackle on Service lands and waters. The best available science, analyzed as part of this proposed rulemaking, indicates that lead ammunition and tackle may have negative impacts on both wildlife and human health. Therefore, while the Service continues to evaluate the future of lead use in hunting and fishing on Service lands and waters, this rulemaking does not include any opportunities that would increase the use of lead on refuge lands. Patoka River NWR is proposing to require non-lead ammunition and tackle by fall 2026, and if adopted in the final rule, this refuge-specific proposed regulation would take effect on September 1, 2026. Blackwater, Canaan Valley, Chincoteague, Eastern Neck, Erie, Great Thicket, Patuxent Research Refuge, Rachel Carson, and Wallops Island NWRs have analyzed the phase-out of lead ammunition and tackle by fall 2026 for their proposed hunting and fishing opportunities in their individual environmental assessments and hunting and fishing plans, and plan to propose the regulatory requirement for using non-lead ammunition in the 2026-2027 annual rule.

Fish Advisory

For health reasons, anglers should review and follow State-issued consumption advisories before enjoying recreational sport fishing opportunities on Service-managed waters. You can find information about current fish-consumption advisories on the internet at https://www.epa.gov/fish-tech.

Request for Comments

You may submit comments and materials on this proposed rule by one of the methods listed in ADDRESSES. We will not accept comments sent by email or fax or to an address not listed in ADDRESSES. We will not consider hand-delivered comments that we do not receive, or mailed comments that are not postmarked, by the date specified in DATES.

We will post your entire comment on https://www.regulations.gov. Before including personal identifying information in your comment, you should be aware that we may make your entire comment—including your personal identifying information—publicly available at any time. While you can ask us in your comment to withhold your personal identifying information from public review, we cannot guarantee that we will be able to do so. We will post all hardcopy comments on https://www.regulations.gov.

Required Determinations

Clarity of This Proposed Rule

Executive Orders 12866 and 12988 and the Presidential Memorandum of June 1, 1998, require us to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Regulatory Planning and Review (Executive Orders 12866 and 13563)

Executive Order 12866 provides that the Office of Information and Regulatory Affairs (OIRA) will review all significant rules. OIRA has determined that this rulemaking is not significant.

Executive Order (E.O.) 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This proposed rule would open or expand hunting and sport fishing on 19 NWRs. As a result, visitor use for wildlife-dependent recreation on these stations will change. If the stations establishing new programs were a pure addition to the current supply of those activities, it would mean an estimated maximum increase of 2,769 user days (one person per day participating in a recreational opportunity; see table 2). Because the participation trend is flat in these activities, this increase in supply will most likely be offset by other sites losing participants. Therefore, this is likely to be a substitute site for the activity and not necessarily an increase in participation rates for the activity.

Table 2—Estimated Maximum Change in Recreation Opportunities in 2022-2023
[2021 Dollars in thousands]
Station | Additional hunting days | Additional fishing days | Additional expenditures
Baskett Slough NWR | 270 |  | $9.5
Blackwater NWR | 100 |  | 3.5
Canaan Valley NWR | 25 |  | 0.9
Chincoteague NWR | 75 |  | 2.6
Crab Orchard NWR | 60 |  | 2.1
Eastern Neck NWR | 15 |  | 0.5
Erie NWR | 25 | 30 | 2.0
Ernest F. Hollings ACE Basin NWR |  |  | 0.0
Great Thicket NWR | 175 |  | 6.2
James River NWR | 75 |  | 2.6
Patoka River NWR and Management Area | 17 | 3 | 0.6
Patuxent Research Refuge | 100 |  | 3.6
Rachel Carson NWR | 10 |  | 0.4
Rappahannock River Valley NWR | 100 |  | 3.5
San Diego NWR | 1,002 |  | 35.3
Shawangunk Grasslands NWR | 75 |  | 2.6
Trustom Pond NWR | 60 |  | 2.1
Turnbull NWR | 560 |  | 19.7
Wallops Island NWR | 25 |  | 0.9
Total | 2,769 | 33 | 98.6

To the extent visitors spend time and money in the area of the station that they would not have spent there anyway, they contribute new income to the regional economy and benefit local businesses. Due to the unavailability of site-specific expenditure data, we use the national estimates from the 2016 National Survey of Fishing, Hunting, and Wildlife Associated Recreation to identify expenditures for food and lodging, transportation, and other incidental expenses. Using the average expenditures for these categories with the maximum expected additional participation of the Refuge System yields approximately $99,000 in recreation-related expenditures (see table 2, above). By having ripple effects throughout the economy, these direct expenditures are only part of the economic impact of these recreational activities. Using a national impact multiplier for hunting activities (2.51) derived from the report “Hunting in America: An Economic Force for Conservation” and for fishing activities (2.51) derived from the report “Sportfishing in America” yields a total maximum economic impact of approximately $248,000 (2021 dollars) (Southwick Associates, Inc., 2018). Using a local impact multiplier would yield more accurate and smaller results. However, we employed the national impact multiplier due to the difficulty in developing local multipliers for each specific region.

Since we know that most of the fishing and hunting occurs within 100 miles of a participant's residence, then it is unlikely that most of this spending will be “new” money coming into a local economy; therefore, this spending will be offset with a decrease in some other sector of the local economy. The net gain to the local economies will be no more than $248,000 and likely less. Since 80 percent of the participants travel less than 100 miles to engage in hunting and fishing activities, their spending patterns will not add new money into the local economy and, therefore, the real impact will be on the order of about $50,000 annually.

Small businesses within the retail trade industry (such as hotels, gas stations, taxidermy shops, bait-and-tackle shops, and similar businesses) may be affected by some increased or decreased station visitation. A large percentage of these retail trade establishments in the local communities around NWRs qualify as small businesses (see table 3, below). We expect that the incremental recreational changes will be scattered, and so we do not expect that the rule will have a significant economic effect on a substantial number of small entities in any region or nationally. As noted previously, we expect at most $99,000 to be spent in total in the refuges' local economies. The maximum increase will be less than one-tenth of 1 percent for local retail trade spending (see table 3, below). Table 3 does not include entries for those NWRs for which we project no changes in recreation opportunities in 2022-2023; see table 2, above.

Table 3—Comparative Expenditures for Retail Trade Associated With Additional Station Visitation for 2022-2023
[Thousands, 2021 dollars]
Station/county(ies) | Retail trade in ¹ 2017 | Estimated maximum addition from new activities | Addition as % of total | Establishments in ¹ 2017 | Establishments with fewer than 10 employees in ¹ 2017
Baskett Slough:
Polk, OR | $454,935 | $10 | <0.1 | 120 | 79
Blackwater:
Wicomico, MD | 1,983,533 | 2 | <0.1 | 376 | 226
Dorchester, MD | 541,191 | 2 | <0.1 | 100 | 74
Canaan Valley:
Grant, WV | 118,297 | <1 | <0.1 | 42 | 28
Tucker, WV | 70,798 | <1 | <0.1 | 28 | 20
Chincoteague:
Accomack, VA | 405,539 | 3 | <0.1 | 159 | 122
Crab Orchard:
Williamson, IL | 1,298,962 | 2 | <0.1 | 259 | 168
Eastern Neck:
Kent, MD | 216,681 | 1 | <0.1 | 87 | 57
Erie:
Crawford, PA | 1,095,512 | 2 | <0.1 | 293 | 197
Great Thicket:
Dutchess, NY | 4,321,906 | 3 | <0.1 | 1,084 | 784
York, ME | 2,972,219 | 3 | <0.1 | 871 | 640
James River:
Prince George, VA | 317,610 | 1 | <0.1 | 65 | 42
Patoka River:
Pike, IN | 70,298 | <1 | <0.1 | 32 | 23
Gibson, IN | 554,605 | <1 | <0.1 | 116 | 76
Patuxent Research Refuge:
Arundel, MD | 10,437,225 | 2 | <0.1 | 1,984 | 1,216
Prince George, MD | 11,591,063 | 2 | <0.1 | 2,361 | 1,482
Rachel Carson:
York, ME | 2,972,219 | <1 | <0.1 | 871 | 640
Cumberland, ME | 7,773,235 | <1 | <0.1 | 1,454 | 936
Rappahannock River Valley:
Essex, VA | 244,493 | 1 | <0.1 | 65 | 48
King George, VA | 379,429 | 1 | <0.1 | 64 | 42
Westmoreland, VA | 128,188 | 1 | <0.1 | 44 | 31
Richmond, VA | 2,498,764 | 1 | <0.1 | 795 | 578
Caroline, VA | 339,291 | 1 | <0.1 | 63 | 48
San Diego:
San Diego, CA | 51,587,171 | 35 | <0.1 | 9,423 | 6,245
Shawangunk Grasslands:
Ulster, NY | 2,841,612 | 3 | <0.1 | 747 | 546
Trustom Pond:
Washington, RI | 2,314,122 | 2 | <0.1 | 524 | 372
Turnbull:
Spokane, WA | 8,674,550 | 20 | <0.1 | 1,627 | 1,036
Wallops Island:
Accomack, VA | 405,539 | <1 | <0.1 | 159 | 122
¹ U.S. Census Bureau.

With the small change in overall spending anticipated from this proposed rule, it is unlikely that a substantial number of small entities will have more than a small impact from the spending change near the affected stations. Therefore, we certify that this rule, as proposed, will not have a significant economic effect on a substantial number of small entities as defined under the Regulatory Flexibility Act (5 U.S.C. 601 et seq.). A regulatory flexibility analysis is not required. Accordingly, a small entity compliance guide is not required.

Small Business Regulatory Enforcement Fairness Act

The proposed rule is not a major rule under 5 U.S.C. 804(2), the Small Business Regulatory Enforcement Fairness Act. We anticipate no significant employment or small business effects. This proposed rule:

a. Would not have an annual effect on the economy of $100 million or more. The minimal impact would be scattered across the country and would most likely not be significant in any local area.

b. Would not cause a major increase in costs or prices for consumers; individual industries; Federal, State, or local government agencies; or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States, and, therefore, it should not affect prices for hunting equipment and supplies, or the retailers that sell equipment.

c. Would not have significant adverse effects on competition, employment, investment, productivity, innovation, or the ability of U.S.-based enterprises to compete with foreign-based enterprises. This proposed rule represents only a small proportion of recreational spending at NWRs. Therefore, if adopted, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The proposed rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This proposed rule would affect only visitors at NWRs, and would describe what they can do while they are on a Service station.

Federalism (E.O. 13132)

As discussed under Regulatory Planning and Review and Unfunded Mandates Reform Act, above, this proposed rule would not have sufficient federalism implications to warrant the preparation of a federalism summary impact statement under E.O. 13132. In preparing this proposed rule, we worked with State governments.

Civil Justice Reform (E.O. 12988)

In accordance with E.O. 12988, the Department of the Interior has determined that this proposed rule would not unduly burden the judicial system and that it meets the requirements of sections 3(a) and 3(b)(2) of the Order.

Energy Supply, Distribution or Use (E.O. 13211)

On May 18, 2001, the President issued E.O. 13211 on regulations that significantly affect energy supply, distribution, or use. E.O. 13211 requires agencies to prepare Statements of Energy Effects when undertaking certain actions. Because this proposed rule would add 2 NWRs to the list of refuges open to hunting and sport fishing and open or expand hunting or sport fishing at 17 other NWRs, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian Tribes and have determined that there are no effects. We coordinate recreational use on NWRs and national fish hatcheries (NFHs) with Tribal governments having adjoining or overlapping jurisdiction before we propose the regulations.

Paperwork Reduction Act (PRA)

This proposed rule contains existing information collections. All information collections require approval by the Office of Management and Budget (OMB) under the Paperwork Reduction Act of 1995 (44 U.S.C. 3501 et seq.). We may not conduct or sponsor and you are not required to respond to a collection of information unless it displays a currently valid OMB control number. The OMB has reviewed and approved the information collection requirements associated with hunting and sport fishing activities across the National Wildlife Refuge System and National Fish Hatchery System and assigned the following OMB control numbers:

• 1018-0140, “Hunting and Sport Fishing Application Forms and Activity Reports for National Wildlife Refuges, 50 CFR 25.41, 25.43, 25.51, 26.32, 26.33, 27.42, 30.11, 31.15, 32.1 to 32.72” (Expires 12/31/2023),

• 1018-0102, “National Wildlife Refuge Special Use Permit Applications and Reports, 50 CFR 25, 26, 27, 29, 30, 31, 32, & 36” (Expires 01/31/2024),

• 1018-0135, “Electronic Federal Duck Stamp Program” (Expires 01/31/2023),

• 1018-0093, “Federal Fish and Wildlife Permit Applications and Reports—Management Authority; 50 CFR 13, 15, 16, 17, 18, 22, 23” (Expires 08/31/2023), and

• 1024-0252, “The Interagency Access Pass and Senior Pass Application Processes” (Expires 09/30/2023).

In accordance with the PRA and its implementing regulations at 5 CFR 1320.8(d)(1), we provide the general public and other Federal agencies with an opportunity to comment on our proposal to revise OMB control number 1018-0140. This helps us assess the impact of our information collection requirements and minimize the public's reporting burden. It also helps the public understand our information collection requirements and provide the requested data in the desired format.

As part of our continuing effort to reduce paperwork and respondent burdens, and in accordance with 5 CFR 1320.8(d)(1), we invite the public and other Federal agencies to comment on any aspect of this proposed information collection, including:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) Ways to minimize the burden of the collection of information on those who are to respond, including through the use of appropriate automated, electronic, mechanical, or other technological collection techniques or other forms of information technology, e.g., permitting electronic submission of response.

Comments that you submit in response to this proposed rulemaking are a matter of public record. Before including your address, phone number, email address, or other personal identifying information in your comment, you should be aware that your entire comment—including your personal identifying information—may be made publicly available at any time. While you can ask us in your comment to withhold your personal identifying information from public review, we cannot guarantee that we will be able to do so.

The Service's proposed rule (RIN 1018-BF66) would open, for the first time, hunting and sport fishing on two NWRs and open or expand hunting and sport fishing at 17 other NWRs. The additional burden associated with these new or expanded hunting and sport fishing opportunities, as well as the revised information collections identified below, require OMB approval.

Many refuges offer hunting and sport fishing activities without collecting any information. Those refuges that do collect hunter and angler information do so seasonally, usually once a year at the beginning of the hunting or sport fishing season. Some refuges may elect to collect the identical information via a non-form format (letter, email, or through discussions in person or over the phone). Some refuges provide the form electronically over the internet. In some cases, because of high demand and limited resources, we often provide hunt opportunities by lottery, based on dates, locations, or type of hunt.

The proposed changes to the existing information collections identified below require OMB approval:

Hunting Applications/Permit (FWS Form 3-2439, Hunt Application—National Wildlife Refuge System)

Form 3-2439 collects the following information from individuals seeking hunting experiences on the NWRs:

• Lottery Application: Refuges who administer hunting via a lottery system will use Form 3-2439 as the lottery application. If the applicant is successful, the completed Form 3-2439 also serves as their permit application, avoiding a duplication of burden on the public filling out two separate forms.

• Date of application: We often have application deadlines, and this information helps staff determine the order in which we received the applications. It also ensures that the information is current.

• Methods: Some refuges hold multiple types of hunts, i.e., archery, shotgun, primitive weapons, etc. We ask for this information to identify opportunity(ies) a hunter is applying for.

• Species Permit Type: Some refuges allow only certain species, such as moose, elk, or bighorn sheep, to be hunted. We ask hunters to identify which species they are applying to hunt for.

• Applicant information: We collect name, address, phone number(s), and email so we can contact the applicant/permittee either during the application process, when the applicant is successful in a lottery drawing, or after receiving a permit.

• Party Members: Some refuges allow the permit applicant to include additional hunters in their group. We collect the names of all additional hunters, when allowed by the refuge.

• Parent/Guardian Contact Information: We collect name, relationship, address, phone number(s), and email for a parent/guardian of youth hunters. We ask for this information in the event of an emergency.

• Date: We ask hunters for their preferences for hunt dates.

• Hunt/Blind Location: We ask hunters for their preferences for hunt units, areas, or blinds.

• Special hunts: Some refuges hold special hunts for youth, hunters who are disabled, or other underserved populations. We ask hunters to identify if they are applying for these special hunts. For youth hunts, we ask for the age of the hunter at the time of the hunt.

• Signature and date: To confirm that the applicant (and parent/guardian, if a youth hunter) understands the terms and conditions of the permit.

Proposed revisions to FWS Form 3-2439:

With this submission, we propose to add an option for refuges to allow mobility impaired applicants to reserve specific hunting blinds upon providing proof of disability. The refuge will not retain the proof of disability. The documentation will be shredded upon approval of the blind reservation.

Self-Clearing Check-in Permit (FWS Form 3-2405)

FWS Form 3-2405 has three parts:

• Self-Clearing Daily Check-in Permit. Each user completes this portion of the form (date of visit, name, and telephone numbers) and deposits it in the permit box prior to engaging in any activity on the refuge.

• Self-Clearing Daily Visitor Registration Permit. Each user must complete the front side of the form (date, name, city, State, zip code, and purpose of visit) and carry this portion while on the refuge. At the completion of the visit, each user must complete the reverse side of the form (number of hours on refuge, harvest information (species and number), harvest method, angler information (species and number), and wildlife sighted (e.g., black bear and hog)) and deposit it in the permit box.

• Self-Clearing Daily Vehicle Permit. The driver and each user traveling in the vehicle must complete this portion (date) and display in clear view in the vehicle while on the refuge.

We use FWS Form 3-2405 to collect:

• Information on the visitor (name, address, and contact information). We use this information to identify the visitor or driver/passenger of a vehicle while on the refuge. This is extremely valuable information should visitors become lost or injured. Law enforcement officers can easily check vehicles for these cards in order to determine a starting point for the search or to contact family members in the event of an abandoned vehicle. Having this information readily available is critical in a search and rescue situation.

• Purpose of visit (hunting, sport fishing, wildlife observation, wildlife photography, auto touring, birding, hiking, boating/canoeing, visitor center, special event, environmental education class, volunteering, other recreation). This information is critical in determining public use participation in wildlife management programs. This not only allows the refuge to manage its hunt and other visitor use programs, but also to increase and/or improve facilities for non-consumptive uses that are becoming more popular on refuges. Data collected will also help managers better allocate staff and resources to serve the public as well as develop annual performance measures.

• Success of harvest by hunters/anglers (number and type of harvest/caught). This information is critical to wildlife management programs on refuges. Each refuge will customize the form by listing game species and incidental species available on the refuge, hunting methods allowed, and data needed for certain species (e.g., for deer, whether it is a buck or doe and the number of points; or for turkeys, the weight and beard and spur lengths).

• Visitor observations of incidental species. This information will help managers develop annual performance measures and provides information to help develop resource management planning.

• Photograph of animal harvested (specific refuges only). This requirement documents the sex of animal prior to the hunter being eligible to harvest the opposite sex (where allowed).

• Date of visit and/or area visited.

• Comments. We encourage visitors to comment on their experience.

Proposed revisions to FWS Form 3-2405:

With this submission, we propose the addition of a question asking hunters to provide the total number of hunt days on the refuge (at the conclusion of their hunting activities). Refuge management will use this information to monitor and evaluate hunt quality and resource impacts.

We will propose to renew, without change, the remaining information collections identified below currently approved by OMB:

Sport Fishing Application/Permit (FWS Form 3-2358, “Sport Fishing-Shrimping-Crabbing-Frogging Permit Application”)

Form 3-2358 allows the applicant to choose multiple permit activities, and requests the applicant provide the State fishing license number. The form provides the refuge with more flexibility to insert refuge-specific requirements/instructions, along with a permit number and dates valid for season issued.

We collect the following information from individuals seeking sport fishing experiences:

• Date of application: We often have application deadlines, and this information helps staff determine the order in which we received the applications. It also ensures that the information is current.

• State fishing license number: We ask for this information to verify the applicant is legally licensed by the State (where required).

• Permit Type: On sport fishing permits, we ask what type of activity (crabbing, shrimping, frogging, etc.) is being applied for.

• Applicant information: We collect name, address, phone number(s), and email so we can contact the applicant/permittee either during the application process or after receiving a permit.

• Signature and date: To confirm that the applicant (and parent/guardian, if a youth hunter) understands the terms and conditions of the permit.

Harvest/Fishing Activity Reports

We have one harvest/fishing activity report, FWS Form 3-2439, to be completed by hunters which addresses the species unique to the refuge being hunted. We ask users to report on their success after their experience so that we can evaluate hunt quality and resource impacts.

We collect the following information on the harvest reports:

• State-issued hunter identification (ID)/license number (Note: Refuges/hatcheries that rely on the State agency to issue hunting permits are not required to collect the permittee's personal identifying information (PII) on the harvest form. Those refuges/hatcheries may opt to collect only the State ID number assigned to the hunter in order to match harvest data with their issued permit. Refuges/hatcheries will collect either hunter PII or State-issued ID number, but not both.).

• Species observed. Data will be used by refuge/hatchery staff to document the presence of rare or unusual species (e.g., endangered or threatened species, or invasive species).

• Permit number/type. Data will be used to link the harvest report to the issued permit.

• Hunt Tag Number. Data will be used to link the harvest report to the species-specific hunt tag.

• Number of youth (younger than 18) in party. Data will be used to better understand volume of youth hunting on a refuge/hatchery. Specific hunter names are not collected, just total number of youths in hunting party.

• Harvested by. Data will be used to determine ratio of adults to youth hunters. Specific hunter names are not collected.

Labeling/Marking Requirements

As a condition of the permit, some refuges require permittees to label hunting and/or sport fishing gear used on the refuge. This equipment may include items such as the following: tree stands, blinds, or game cameras; hunting dogs (collars); flagging/trail markers; boats; and/or sport fishing equipment such as jugs, trotlines, and crawfish or crab traps. Refuges require the owner to label their equipment with their last name, the State-issued hunting/fishing license number, and/or hunting/fishing permit number. Refuges may also require equipment for youth hunters include “YOUTH” on the label. This minimal information is necessary in the event the refuge needs to contact the owner.

Required Notifications

On occasion, hunters may find their game has landed outside of established hunting boundaries. In this situation, hunters must notify an authorized refuge employee to obtain consent to retrieve the game from an area closed to hunting or entry only upon specific consent. Certain refuges also require hunters to notify the refuge manager when hunting specific species (e.g., black bear, bobcat, or eastern coyote) with trailing dogs. Refuges encompassing privately owned lands, referred to as “easement overlay refuges” or “limited-interest easement refuges,” may also require the hunter to obtain written or oral permission from the landowner prior to accessing the land.

Due to the wide range of hunting and sport fishing opportunities offered on NWRs and NFHs, the refuges and fish hatcheries may customize the forms to remove any fields that are not pertinent to the recreational opportunities they offer. Refuges will not add any new fields to the forms, but the order of the fields may be reorganized. Refuges may also customize the forms with instructions and permit conditions specific to a particular unit for the hunting/sport fishing activity. Copies of the draft forms are available to the public by submitting a request to the Service Information Collection Clearance Officer using one of the methods identified above in ADDRESSES.

Title of Collection: Hunting and Fishing Application Forms and Activity Reports for National Wildlife Refuges and National Fish Hatcheries, 50 CFR parts 32 and 71.

OMB Control Number: 1018-0140.

Form Number: FWS Forms 3-2358, 3-2405, 3-2439, and 3-2542.

Type of Review: Revision of a currently approved collection.

Respondents/Affected Public: Individuals and households.

Respondent's Obligation: Required to Obtain or Retain a Benefit.

Frequency of Collection: On occasion.

Estimated Annual Non-hour Burden Cost: $87,365 (application fees associated with hunting and sport fishing activities).

Activity | Annual number of responses | Completion time per response (minutes) | Total annual burden hours *
Fish/Crab/Shrimp Application/Permit (Form 3-2358) | 2,662 | 5 | 222
Harvest Reports (Forms 3-2542) | 591,577 | 15 | 147,894
Hunt Application/Permit (Form 3-2439) | 361,359 | 10 | 60,227
Labeling/Marking Requirements | 2,341 | 10 | 390
Required Notifications | 498 | 30 | 249
Self-Clearing Check-In Permit (Form 3-2405) | 673,618 | 5 | 56,135
Totals | 1,632,055 |  | 265,117
* Rounded.

The above burden estimates indicate an expected total of 1,632,055 responses and 265,117 burden hours across all of our forms. These totals reflect expected increases of 1,652 responses and 270 burden hours relative to our previous information collection request. We expect minimal burden increases as a direct result of the increased number of hunting and fishing opportunities on Service stations under this proposed rule.

Send your comments and suggestions on this information collection by the date indicated under Information collection requirements in DATES to the Service Information Collection Clearance Officer, U.S. Fish and Wildlife Service, 5275 Leesburg Pike, MS: PRB (JAO/3W), Falls Church, VA 22041-3803 (mail); or Info_Coll@fws.gov (email). Please reference OMB Control Number 1018-0140 in the subject line of your comments.

Endangered Species Act Section 7 Consultation

We comply with section 7 of the Endangered Species Act of 1973, as amended (16 U.S.C. 1531 et seq.), when developing comprehensive conservation plans and step-down management plans—which would include hunting and/or fishing plans—for public use of refuges and hatcheries, and prior to implementing any new or revised public recreation program on a station as identified in 50 CFR 26.32. We complied with section 7 for each of the stations affected by this proposed rulemaking.

National Environmental Policy Act

We analyzed this proposed rule in accordance with the criteria of the National Environmental Policy Act of 1969 (NEPA; 42 U.S.C. 4332(C)), 43 CFR part 46, and 516 Departmental Manual (DM) 8.

A categorical exclusion from NEPA documentation applies to publication of proposed amendments to station-specific hunting and fishing regulations because they are technical and procedural in nature, and the environmental effects are too broad, speculative, or conjectural to lend themselves to meaningful analysis (43 CFR 46.210 and 516 DM 8). Concerning the actions that are the subject of this proposed rulemaking, we have complied with NEPA at the project level when developing each proposal. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these proposed station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States listed below:

Hawaii, Idaho, Oregon, and Washington. Regional Chief, National Wildlife Refuge System, U.S. Fish and Wildlife Service, Eastside Federal Complex, Suite 1692, 911 NE 11th Avenue, Portland, OR 97232-4181; Telephone (503) 231-6203.

Arizona, New Mexico, Oklahoma, and Texas. Regional Chief, National Wildlife Refuge System, U.S. Fish and Wildlife Service, P.O. Box 1306, 500 Gold Avenue SW, Albuquerque, NM 87103; Telephone (505) 248-6635.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5476.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7356.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-4377.

Alaska. Regional Chief, National Wildlife Refuge System, U.S. Fish and Wildlife Service, 1011 E. Tudor Rd., Anchorage, AK 99503; Telephone (907) 786-3545.

California and Nevada. Regional Chief, National Wildlife Refuge System, U.S. Fish and Wildlife Service, 2800 Cottage Way, Room W-2606, Sacramento, CA 95825; Telephone (916) 767-9241.

Primary Author

Kate Harrigan, Division of Natural Resources and Conservation Planning, National Wildlife Refuge System, is the primary author of this rulemaking document.

List of Subjects in 50 CFR Part 32

Fishing, Hunting, Reporting and recordkeeping requirements, Wildlife, Wildlife refuges.

Proposed Regulation Promulgation

For the reasons set forth in the preamble, we propose to amend title 50, chapter I, subchapter C of the Code of Federal Regulations as follows:

PART 32—HUNTING AND FISHING

1. The authority citation for part 32 continues to read as follows:

Authority: 5 U.S.C. 301; 16 U.S.C. 460k, 664, 668dd-668ee, and 715i; Pub. L. 115-20, 131 Stat. 86.

2. Amend § 32.7 by:

a. Redesignating paragraphs (e)(17) through (23) as paragraphs (e)(18) through (24) and adding a new paragraph (e)(17);

b. Redesignating paragraphs (s)(2) through (7) as paragraphs (s)(3) through (8) and adding a new paragraph (s)(2); and

d. Redesignating paragraphs (ff)(3) through (10) as paragraphs (ff)(4) through (11) and adding a new paragraph (ff)(3).

The additions read as follows:

§ 32.7 What refuge units are open to hunting and/or sport fishing?

* * * * *

(e) * * *

(17) San Diego National Wildlife Refuge.

* * * * *

(s) * * *

(2) Great Thicket National Wildlife Refuge.

* * * * *

(ff) * * *

(3) Great Thicket National Wildlife Refuge.

* * * * *

3. Amend § 32.24 by:

a. Revising paragraphs (m)(1)(ix) and (m)(4)(i);

b. Redesignating paragraphs (q) through (w) as (r) through (x);

c. Adding new paragraph (q); and

d. Revising newly redesignated paragraphs (t)(2)(ii) and (w)(2)(ii).

The revisions and addition read as follows:

§ 32.24 California.

* * * * *

(m) * * *

(1) * * *

(ix) We only allow access to the hunt area by foot and nonmotorized cart.

* * * * *

(4) * * *

(i) We prohibit fishing from October 1 to January 31.

* * * * *

(q) San Diego National Wildlife Refuge—(1) [Reserved]

(2) Upland game hunting. We allow hunting of quail, mourning and white-winged dove, spotted and ringed turtle dove, Eurasian collared-dove, brush rabbit, cottontail rabbit, and jackrabbit on designated areas of the refuge subject to the following conditions:

(i) Archery hunting of quail is limited to September 1 to the closing date established by the California Department of Fish and Wildlife (CDFW).

(ii) Hunting of brush rabbit and cottontail rabbit is limited to September 1 to the closing date established by CDFW.

(iii) Hunting of Eurasian collared-dove and jackrabbit is limited to September 1 to the last day of February.

(iv) We allow shotguns and archery only. Falconry is prohibited.

(v) You may not possess more than 25 shot shells while in the field.

(vi) We allow the use of dogs when hunting upland game.

(3) Big game hunting. We allow hunting of mule deer on designated areas of the refuge.

(4) [Reserved]

* * * * *

(t) * * *

(2) * * *

(ii) The conditions set forth at paragraphs (t)(1)(ii) and (iii) of this section apply.

* * * * *

(w) * * *

(2) * * *

(ii) The conditions set forth at paragraphs (w)(1)(i) through (viii) of this section apply.

* * * * *

4. Amend § 32.29 by revising paragraph (a)(3) to read as follows:

§ 32.29 Georgia.

* * * * *

(a) * * *

(3) Big game hunting. We allow alligator hunting on designated areas of the refuge subject to the following condition: We only allow alligator hunting on dates outlined by the State of Georgia during the first two weekends (from legal sunset Friday through legal sunrise Monday) of the State alligator season.

* * * * *

5. Amend § 32.33 by revising paragraph (c) to read as follows:

§ 32.33 Indiana.

* * * * *

(c) Patoka River National Wildlife Refuge and Management Area—(1) Migratory game bird hunting. We allow hunting of duck, goose, merganser, coot, woodcock, dove, snipe, rail, and crow on designated areas of the refuge and the White River Wildlife Management Area subject to the following conditions:

(i) You must remove all boats, decoys, blinds, and blind materials after each day's hunt (see §§ 27.93 and 27.94 of this chapter).

(ii) We prohibit hunting and the discharge of a weapon within 150 yards (137 meters) of any dwelling or any building that may be occupied by people, pets, or livestock and within 50 yards (45 meters) of all designated public use facilities, including, but not limited to, parking areas and established hiking trails listed in the refuge hunting and fishing brochure.

(iii) You may only use or possess approved non-lead shot shells, ammunition, and tackle while in the field.

(2) Upland game hunting. We allow hunting of bobwhite quail, pheasant, cottontail rabbit, squirrel (gray and fox), red and gray fox, coyote, opossum, striped skunk, and raccoon subject to the following conditions:

(i) We allow the use of dogs for hunting, provided the dog is under the immediate control of the hunter at all times.

(ii) The conditions set forth at paragraphs (c)(1)(i) through (iii) of this section apply.

(3) Big game hunting. We allow hunting of white-tailed deer and wild turkey on designated areas of the refuge subject to the following conditions:

(i) The conditions set forth at paragraphs (c)(1)(i) through (iii) of this section apply.

(ii) On the Columbia Mine Unit, you may only hunt white-tailed deer during the first week (7 days) of the following seasons, as governed by the State: archery, firearms, and muzzleloader.

(iii) On the Columbia Mine Unit, you may leave portable tree stands overnight only when the unit is open to hunting and for a 2-day grace period before and after the special season.

(iv) On the Columbia Mine Unit, if you use a rifle to hunt, you may use only rifles allowed by State regulations for hunting on public land.

(4) Sport fishing. We allow sport fishing on designated areas of the refuge subject to the following conditions:

(i) We allow fishing from legal sunrise to legal sunset.

(ii) We allow fishing only with rod and reel, pole and line, bow and arrow, or crossbow.

(iii) The minimum size limit for largemouth bass on Snakey Point Marsh and on the Columbia Mine Unit is 14 inches (35.6 centimeters).

(iv) We prohibit the taking of any turtle, frog, leech, minnow, crayfish, and mussel (clam) species by any method on the refuge (see § 27.21 of this chapter).

(v) You must remove boats at the end of each day's fishing activity (see § 27.93 of this chapter).

(vi) The condition set forth at paragraph (c)(1)(iii) of this section applies.

* * * * *

6. Amend § 32.38 by:

a. Redesignating paragraphs (b) through (g) as (c) through (h);

b. Adding new paragraph (b);

c. Revising newly redesignated paragraphs (c)(2)(i), (c)(3)(i), (f)(2), (f)(3)(i), (f)(3)(iii), and (f)(3)(vi);

d. Adding new paragraph (f)(3)(vii); and

e. Revising newly redesignated paragraphs (g)(2)(i) and (g)(3)(i).

The additions and revisions read as follows:

§ 32.38 Maine.

* * * * *

(b) Great Thicket National Wildlife Refuge—(1) Migratory game bird hunting. We allow hunting of duck, sea duck, dark goose, light goose, woodcock, and coot on designated areas of the refuge subject to the following conditions:

(i) You must obtain and sign a refuge hunt information sheet and carry the information sheet at all times.

(ii) We allow the use of dogs consistent with State regulations.

(iii) We allow access for hunting from one hour before legal hunting hours until one hour after legal hunting hours.

(iv) We allow take of migratory birds by falconry on the refuge during State seasons.

(2) Upland game hunting. We allow hunting of grouse and the incidental take of fox and coyote while deer hunting on designated areas of the refuge subject to the following conditions:

(i) The conditions set forth at paragraphs (b)(1)(i) through (b)(1)(iii) of this section apply.

(ii) We prohibit night hunting of coyote.

(iii) We allow take of grouse by falconry on the refuge during the State season.

(3) Big game hunting. We allow hunting of wild turkey and white-tailed deer, and the incidental take of fox and coyote while deer hunting, on designated areas of the refuge subject to the following conditions:

(i) The conditions set forth at paragraphs (b)(1)(i) through (b)(1)(iii) of this section apply.

(ii) All species harvested on the refuge must be retrieved.

(4) [Reserved]

(c) * * *

(2) * * *

(i) The conditions set forth at paragraphs (c)(1)(i), (ii) (except for hunters pursuing raccoon and coyote at night), (iii), and (iv) of this section apply.

* * * * *

(3) * * *

(i) The conditions set forth at paragraphs (c)(1)(i), (ii), and (iv) of this section apply.

* * * * *

(f) * * *

(2) Upland game hunting. We allow hunting of grouse, fox, and coyote on designated areas of the refuge subject to the following conditions:

(i) The conditions set forth at paragraphs (f)(1)(i) and (iii) of this section apply.

(ii) We allow take of grouse by falconry on the refuge during State seasons.

(3) * * *

(i) The conditions as set forth at paragraphs (f)(1)(i) and (iv) of this section apply.

* * * * *

(iii) We allow turkey hunting during the fall season as designated by the State. Turkey hunting in the spring is a mentor-led hunt only.

* * * * *

(vi) We allow access for hunting from 1 hour before legal hunting hours until 1 hour after legal hunting hours.

(vii) All species harvested on the refuge must be retrieved.

* * * * *

(g) * * *

(2) * * *

(i) The conditions set forth at paragraphs (g)(1)(i) through (iv) (except for hunters pursing raccoon or coyote at night) of this section apply.

* * * * *

(3) * * *

(i) The conditions set forth at paragraphs (g)(1)(i), (ii), and (iv) of this section apply.

* * * * *

7. Amend § 32.39 by:

a. Revising paragraph (a)(1)(i);

b. Adding paragraph (a)(2);

c. Revising paragraphs (a)(3)(i)(D), (a)(3)(iii), and (a)(3)(v)(A);

d. Adding paragraphs (a)(4)(iii) and (b)(2);

e. Revising paragraphs (b)(3)(i)(C) and (b)(3)(iii)(A);

f. Adding paragraphs (b)(4)(iii) and (c)(3)(iii); and

g. Revising paragraph (c)(4).

The revisions and additions read as follows:

§ 32.39 Maryland.

* * * * *

(a) * * *

(1) * * *

(i) You must obtain, and possess while hunting, a refuge waterfowl hunting permit (printed and signed copy of permit from Recreation.gov).

* * * * *

(2) Upland game hunting. We allow incidental take of coyote during the prescribed State season while deer hunting on designated areas of the refuge subject to the following conditions:

(i) The conditions set forth at paragraphs (a)(3)(i) through (v) apply.

(ii) Coyote may only be taken with firearms and archery equipment allowed during the respective deer seasons.

(iii) We prohibit the use of electronic predator calls.

(iv) We require the use of non-lead ammunition.

(3) * * *

(i) * * *

(D) We prohibit the use of rimfire or centerfire rifles and all handguns, except those that fire straight wall cartridges as defined by State law that are legal for deer hunting.

* * * * *

(iii) We allow turkey hunt permit holders (printed and signed copy of permit from Recreation.gov) to have an assistant, who must remain within sight and normal voice contact and abide by the rules set forth in the refuge's turkey hunting brochure.

* * * * *

(v) * * *

(A) We require disabled hunters to have an America the Beautiful Access pass (OMB Control 1024-0252) in their possession while hunting in disabled areas.

* * * * *

(4) * * *

(iii) We prohibit the use of lead fishing tackle while fishing in refuge waters.

(b) * * *

(2) Upland game hunting. We allow incidental take of coyote during the prescribed State season while deer hunting on designated areas of the refuge subject to the following conditions:

(i) The conditions set forth at paragraphs (b)(3)(i) through (iii) apply.

(ii) Coyote may only be taken with firearms and archery equipment allowed during the respective deer seasons.

(iii) We prohibit the use of electronic predator calls.

(iv) We require the use of non-lead ammunition.

(3) * * *

(i) * * *

(C) We prohibit organized deer drives. We define a “deer drive” as an organized or planned effort to pursue, drive, chase, or otherwise frighten or cause deer to move in the direction of any person(s) who is part of the organized or planned hunt and known to be waiting for the deer.

* * * * *

(iii) * * *

(A) We require disabled hunters to have an America the Beautiful Access pass (OMB Control 1024-0252) in their possession while hunting in disabled areas.

* * * * *

(4) * * *

(iii) We prohibit the use of lead fishing tackle while fishing from designated shoreline areas on refuge.

(c) * * *

(3) * * *

(iii) We prohibit shooting a projectile from a firearm, muzzleloader, bow, or crossbow from, down, or across any road that is traveled by vehicular traffic.

(4) Sport fishing. We allow sport fishing on designated areas of the refuge subject to the following condition: We prohibit the use or possession of lead fishing tackle.

* * * * *

8. Amend § 32.45 by:

a. Revising paragraphs (b)(2) and (v)(1); and

b. Adding new paragraph (v)(3)(v).

The revisions and addition read as follows:

§ 32.45 Montana.

* * * * *

(b) * * *

(2) Upland game hunting. We allow the hunting of pheasant, sharp-tailed grouse, gray partridge, coyote, skunk, red fox, raccoon, hare, rabbit, and tree squirrel on designated areas of the district.

* * * * *

(v) * * *

(1) Migratory game bird hunting. We allow hunting of goose, duck, and coot on designated areas of the refuge subject to the following condition: We allow the use of dogs while hunting migratory birds.

* * * * *

(3) * * *

(v) We prohibit hunting bear with dogs.

* * * * *

9. Amend § 32.51 by:

a. Redesignating paragraphs (c) through (j) as (d) through (k);

b. Adding new paragraph (c); and

c. Revising newly redesignated paragraphs (d)(2)(i), (d)(3)(ii), (e)(1)(ii)(B) through (D), (e)(2)(i), (e)(2)(iv), (e)(3)(i), (e)(3)(iii), (h)(3) introductory text, (h)(3)(ii), (j)(2)(i), and (j)(3)(i).

The addition and revisions read as follows:

§ 32.51 New York.

* * * * *

(c) Great Thicket National Wildlife Refuge—(1)-(2) [Reserved]

(3) Big game hunting. We allow hunting of wild turkey, white-tailed deer, and black bear on designated areas of the refuge subject to the following conditions:

(i) Hunters must obtain a refuge hunting permit (FWS Form 3-2439, Hunt Application—National Wildlife Refuge System). We require hunters to possess a signed refuge hunting permit at all times while scouting and hunting on the refuge.

(ii) We prohibit the use of dogs.

(iii) Hunters may access the refuge 2 hours before legal sunrise and must leave no later than 2 hours after legal sunset.

(iv) We prohibit organized deer drives. We define a “deer drive” as an organized or planned effort to pursue, drive, chase, or otherwise frighten deer into moving in the direction of any person(s) who is part of the organized or planned hunt and known to be waiting for the deer.

(v) We only allow archery hunting.

(4) [Reserved]

(d) * * *

(2) * * *

(i) The condition set forth at paragraph (d)(1)(i) of this section applies.

* * * * *

(3) * * *

(ii) The condition set forth at paragraph (d)(1)(i) of this section applies.

* * * * *

(e) * * *

(1) * * *

(ii) * * *

(B) We allow hunting only on Tuesdays, Thursdays, and Saturdays during the established refuge season set within the State western zone season, and during New York State's established special hunts, which can occur any day of the week as set by the State. Veteran and active military hunters may be accompanied by a qualified non-hunting companion (qualified companions must be of legal hunting age and possess a valid hunting license, Federal Migratory Bird Hunting and Conservation Stamp (as known as “Federal Duck Stamp”), and Harvest Information Program (HIP) number).

(C) All hunters with reservations and their hunting companions must check-in at the Route 89 Hunter Check Station area at least 1 hour before legal shooting time or forfeit their reservation. Hunters may not enter the refuge/Hunter Check Station area earlier than 2 hours before legal sunrise.

(D) We allow motorless boats to hunt waterfowl. We limit hunters to one boat per reservation and one motor vehicle in the hunt area per reservation.

* * * * *

(2) * * *

(i) The condition set forth at paragraph (e)(1)(i) of this section applies.

* * * * *

(iv) We require the use of approved non-lead shot for upland game hunting (see § 32.2(k)).

(3) * * *

(i) The condition set forth at paragraph (e)(1)(i) of this section applies.

* * * * *

(iii) We allow white-tailed deer and turkey hunters to access the refuge from 2 hours before legal sunrise until 2 hours after legal sunset.

* * * * *

(h) * * *

(3) Big game hunting. We allow hunting of black bear, wild turkey, and white-tailed deer on designated areas of the refuge subject to the following conditions:

* * * * *

(ii) You may hunt black bear, wild turkey, and deer using archery equipment only.

* * * * *

(j) * * *

(2) * * *

(i) The conditions set forth at paragraphs (j)(1)(i) through (iii) of this section apply.

* * * * *

(3) * * *

(i) The conditions set forth at paragraphs (j)(1)(i) and (ii), and (j)(2)(ii) of this section apply.

* * * * *

10. Amend § 32.56 by revising paragraph (b)(1)(v) to read as follows:

§ 32.56 Oregon.

* * * * *

(b) * * *

(1) * * *

(v) We require youth waterfowl hunters to check in and out at the Hunter Check Station (refuge office), which is open from 1½ hours before legal hunting hours to 8 a.m. and from 11 a.m. to 1 p.m. We prohibit hunting after 12 p.m. (noon) for this hunt.

* * * * *

11. Amend § 32.57 by revising paragraph (b) to read as follows:

§ 32.57 Pennsylvania.

* * * * *

(b) Erie National Wildlife Refuge—(1) Migratory game bird hunting. We allow hunting of mourning dove, woodcock, rail, Wilson's snipe, Canada goose, duck, coot, mute swan, and crow on designated areas of the refuge subject to the following conditions:

(i) We allow hunting and scouting activities on the refuge from September 1 through the end of February. We also allow scouting the 7 days prior to the start of each season.

(ii) We allow use of nonmotorized boats only for waterfowl hunting in permitted areas.

(iii) We prohibit field possession of migratory game birds in areas of the refuge closed to migratory game bird hunting.

(iv) We allow the use of dogs consistent with State regulations.

(2) Upland game hunting. We allow hunting of ruffed grouse, squirrel, rabbit, woodchuck, pheasant, quail, raccoon, fox, coyote, skunk, weasel, porcupine, and opossum on designated areas of the refuge subject to the following conditions:

(i) We allow woodchuck hunting on the refuge from September 1 through the end of February.

(ii) We prohibit the use of raptors to take small game.

(iii) The condition set forth at paragraph (b)(1)(iv) of this section applies.

(iv) We prohibit night hunting. Hunters may access the refuge 2 hours before sunrise and must leave no later than 2 hours after sunset.

(3) Big game hunting. We allow hunting of deer, bear, turkey, and feral hog on designated areas of the refuge subject to the following conditions:

(i) We allow hunting of feral hogs on the refuge from September 1 through the end of February.

(ii) The condition set forth at paragraph (b)(1)(iv) of this section applies.

(4) Sport fishing. We allow sport fishing on designated areas of the refuge subject to the following conditions:

(i) We allow nonmotorized watercraft use in Area 5. Watercraft must remain in the area from the dike to 3,000 feet (900 meters) upstream.

(ii) We prohibit the taking of turtle or frog (see § 27.21 of this chapter).

(iii) We prohibit the collection or release of baitfish. Possession of live baitfish is prohibited on the Seneca Division.

(iv) We prohibit the taking or possession of shellfish on the refuge.

(v) We prohibit the use of lead fishing tackle on the refuge.

(vi) We allow fishing from ½ hour before sunrise until ½ hour after legal sunset.

* * * * *

12. Amend § 32.58 by:

a. Revising paragraph (d)(3)(iii); and

b. Adding paragraphs (e)(2) and (3).

The revision and additions read as follows:

§ 32.58 Rhode Island.

* * * * *

(d) * * *

(3) * * *

(iii) We only allow portable or temporary stands and blinds that must be removed from the refuge on the last day of the refuge-authorized deer hunt (see § 27.93 of this chapter). We prohibit permanent tree stands. Stands and blinds must be marked with the hunter's State hunting license number.

* * * * *

(e) * * *

(2) Upland game hunting. We allow hunting of coyote and fox on designated areas of the refuge subject to the following conditions:

(i) The condition set forth at paragraph (e)(3)(i) applies.

(ii) We only allow the incidental take of coyote and fox during the refuge deer hunting season with weapons authorized for that hunt.

(3) Big game hunting. We allow hunting of white-tailed deer on designated areas of the refuge subject to the following conditions:

(i) We require every hunter to possess and carry a personally signed refuge hunt permit (FWS Form 3-2439, Hunt Application—National Wildlife Refuge System).

(ii) We only allow portable or temporary stands and blinds that must be removed from the refuge on the last day of the permitted hunting session (see § 27.93 of this chapter). We prohibit permanent tree stands. Stands and blinds must be marked with the hunter's State hunting license number.

(iii) We only allow the use of archery equipment.

* * * * *

13. Amend § 32.59 by:

a. Revising paragraph (c)(3)(iii);

b. Removing paragraph (c)(3)(x); and

c. Redesignating paragraphs (c)(3)(xi) through (xiv) as (c)(3)(x) through (xiii).

The revision reads as follows:

§ 32.59 South Carolina.

* * * * *

(c) * * *

(3) * * *

(iii) Except for the special quota permit hunts, we allow only archery or muzzleloader hunting for deer. We only allow muzzleloading rifles using a single projectile on the muzzleloader hunts. We prohibit buckshot. During special quota permit hunts, we allow use of centerfire rifles or shotguns. We only allow shotguns for turkey hunts.

* * * * *

14. Amend § 32.63 by revising paragraphs (b)(2) introductory text and (b)(2)(i) to read as follows:

§ 32.63 Utah.

* * * * *

(b) * * *

(2)Upland game hunting.We allow hunting of chukar, desertcottontail rabbit, and mountaincottontail rabbit on designated areas of the refuge subject to the following conditions:

(i) We close to hunting on the last day of the State waterfowl season.

* * * * *

15. Amend § 32.64 by adding paragraph (a)(1)(viii)(C) to read as follows:

§ 32.64 Vermont.

* * * * *

(a) * * *

(1) * * *

(viii) * * *

(C) We limit hunting to Saturdays, Sundays, and Wednesdays throughout the waterfowl hunting season for duck.

* * * * *

16. Amend § 32.65 by:

a. Revising paragraphs (a)(4)(ii), (a)(4)(iii), (b), (c), and (f)(1)(ii);

b. Adding new paragraphs (f)(1)(vi) and (h)(1);

c. Revising paragraphs (h)(3)(ii), (h)(3)(iv), (j)(2), and (j)(3)(v);

d. Adding paragraph (m)(1);

e. Revising paragraph (m)(3);

f. Adding paragraphs (n)(1) and (2); and

g. Revising paragraph (n)(3).

The revisions and addition read as follows:

§ 32.65 Virginia.

* * * * *

(a) * * *

(4) * * *

(ii) You may surf fish, crab, and clam south of the refuge's beach access ramp. We allow night surf fishing by permit (FWS Form 3-2358) in this area on dates and at times designated on the permit.

(iii) For sport fishing in D Pool:

(A) We only allow fishing from the docks or banks in D Pool. We prohibit boats, canoes, and kayaks on D Pool.

(B) You must catch and release all freshwater game fish. The daily creel limit for D Pool for other species is a maximum combination of any 10 nongame fish.

(C) Parking for non-ambulatory anglers is available adjacent to the dock at D Pool. All other anglers must enter the area by foot or bicycle.

(b) Chincoteague National Wildlife Refuge—(1) Migratory game bird hunting. We allow hunting of waterfowl, coot, snipe, gallinule, dove, woodcock, crow, and rail on designated areas of the refuge subject to the following conditions:

(i) Hunters must obtain and possess a signed refuge hunt brochure while hunting on the refuge.

(ii) Hunters may only access hunting areas by boat. We allow hunters to access the refuge from 2 hours before legal sunrise until 2 hours after legal sunset.

(iii) We allow hunting during State seasons from September 16 to March 14.

(iv) We allow the use of dogs while hunting consistent with State regulations.

(v) We prohibit the use of permanent blinds and pit blinds. You must remove portable blinds and decoys at the end of each day's hunt.

(vi) We prohibit the possession or use of lead shot while hunting any migratory game species.

(2) Upland game hunting. We allow hunting of raccoon, opossum, fox, and coyote on designated areas of the refuge subject to the following conditions:

(i) The condition set forth at paragraph (b)(1)(i) of this section applies. All occupants of a vehicle or hunt party must possess a signed refuge hunt brochure and be actively engaged in hunting unless aiding a disabled person who possesses a valid State disabled hunting license.

(ii) Hunters must sign in at the hunter check station prior to hunting and sign out prior to exiting the refuge.

(iii) We prohibit the hunting of upland game at night. Hunters may access the refuge from 2 hours before legal sunrise until 2 hours after legal sunset.

(iv) We prohibit the use of dogs while hunting upland game.

(v) We prohibit firearms in designated archery-only areas.

(vi) You may not hunt, discharge a firearm, or nock an arrow or crossbow bolt within 100 feet (30.5 meters) of any building, road, or trail.

(vii) We prohibit the possession or use of lead ammunition while hunting upland game species.

(3) Big game hunting. We allow hunting of white-tailed deer, sika, and wild turkey on designated areas of the refuge subject to the following conditions:

(i) The conditions set forth at paragraphs (b)(2)(i), (ii), (v), and (vi) of this section apply.

(ii) Hunters may access the refuge from 2 hours before legal sunrise until 2 hours after legal sunset.

(iii) We prohibit organized deer drives. We define a “deer drive” as an organized or planned effort to pursue, drive, chase, or otherwise frighten or cause deer to move in the direction of any person(s) who is part of the organized or planned hunt and known to be waiting for the deer.

(iv) We prohibit the use of pursuit dogs while hunting white-tailed deer and sika.

(v) We allow the use of portable tree stands, but you must remove them at the end of each day's hunt.

(vi) We allow limited hunting of wild turkey during designated State spring and fall seasons only when in the possession of a valid refuge turkey quota hunt permit.

(vii) We prohibit the use or possession of lead ammunition while hunting wild turkey.

(4) Sport fishing. We allow sport fishing, crabbing, and clamming from the shoreline of the refuge in designated areas subject to the following conditions:

(i) You must attend minnow traps, crab traps, crab pots, and handlines at all times.

(ii) We prohibit the use of seine nets and pneumatic (compressed air or otherwise) bait launchers.

(iii) The State regulates certain species of finfish, shellfish, and crustacean (crab) using size or possession limits. You may not alter these species, to include cleaning or filleting, in such a way that we cannot determine its species or total length.

(iv) In order to fish after the refuge closes for the day, anglers must obtain an overnight fishing pass (name/address/phone) issued by the National Park Service. Anglers can obtain a pass in person at the National Park Service Tom's Cove Visitor Center.

(v) We allow the possession or use of only three surf fishing poles per licensed angler, and those poles must be attended at all times. This includes persons age 65 or older who are license-exempt in Virginia.

(c) Eastern Shore of Virginia National Wildlife Refuge—(1) Migratory game bird hunting. We allow hunting of waterfowl, rail, snipe, gallinule, coot, woodcock, dove, and crow on designated areas of the refuge subject to the following conditions:

(i) We allow holders of a signed refuge hunt brochure (signed brochure) to access areas of the refuge typically closed to the non-hunting public. All occupants of a vehicle or hunt party must possess a signed brochure and be actively engaged in hunting. We allow an exception for those persons aiding a disabled person who possesses a valid State-issued Commonwealth of Virginia Disabled Resident Lifetime License or Commonwealth of Virginia Resident Disabled Veteran's Lifetime License.

(ii) Hunters may enter the refuge no earlier than 2 hours prior to legal sunrise and must exit the refuge no later than 2 hours after legal sunset.

(iii) We allow the use of dogs consistent with State and Northampton County regulations on designated areas of the refuge.

(iv) We allow hunting on the refuge only from September 1 until February 28. Hunting will follow State seasons during that period.

(v) You may not hunt, discharge a firearm, or nock an arrow or crossbow bolt outside of designated hunt areas or within 100 feet (30.5 meters) of a building, road or improved trail.

(vi) We prohibit the possession or use of lead ammunition while hunting.

(vii) We prohibit the use of permanent blinds and pit blinds. You must remove portable blinds and decoys at the end of each day's hunt.

(2) Upland game hunting. We allow hunting of rabbit, squirrel, quail, raccoon, opossum, fox, and coyote on designated areas of the refuge subject to the following conditions:

(i) The conditions set forth at paragraphs (c)(1)(i) through (vi) of this section apply.

(ii) We prohibit the hunting of upland game at night.

(3) Big game hunting. We allow hunting of white-tailed deer and wild turkey on designated areas of the refuge subject to the following conditions:

(i) The conditions set forth at paragraphs (c)(1)(i), (ii), and (iv) through (vi) of this section apply.

(ii) We allow turkey hunting during the spring season only for a mentor-led hunt.

(iii) We prohibit organized deer drives. We define a “deer drive” as an organized or planned effort to pursue, drive, chase, or otherwise frighten or cause deer to move in the direction of any person(s) who is part of the organized or planned hunt and known to be waiting for the deer.

(iv) We allow the use of portable tree stands. We require removal of the stands after each day's hunt (see § 27.93 of this chapter).

(4) Sport fishing. We allow sport fishing on designated areas of the refuge subject to the following conditions:

(i) Anglers may access the refuge to fish from designated shore areas ½ hour before legal sunrise to ½ hour after legal sunset.

(ii) Anglers may access State waters via the Wise Point Boat Ramp on the refuge from 5 a.m. to 10 p.m.

* * * * *

(f) * * *

(1) * * *

(ii) We allow holders of a signed refuge hunt brochure (signed brochure) to access areas of the refuge typically closed to the non-hunting public. All occupants of a vehicle, boat, or hunt party must possess a signed brochure and be actively engaged in hunting. We allow an exception for those persons aiding a disabled person who possesses a valid State-issued Commonwealth of Virginia Disabled Resident Lifetime License or Commonwealth of Virginia Resident Disabled Veteran's Lifetime License.

* * * * *

(vi) We prohibit the possession or use of lead ammunition while hunting.

* * * * *

(h) * * *

(1) Migratory game bird hunting. We allow hunting of waterfowl on designated areas of the refuge subject to the following conditions:

(i) We allow waterfowl hunting only during the mentor-led hunts.

(ii) We allow the use of retrieval dogs consistent with State regulations.

* * * * *

(3) * * *

(ii) We require spring turkey hunters to obtain a refuge hunting permit (FWS Form 3-2439) through a lottery administered by a designated third-party vendor.

* * * * *

(iv) We prohibit the possession or use of lead ammunition when hunting spring wild turkey.

* * * * *

(j) * * *

(2) Upland game hunting. We allow hunting of coyote and fox on designated areas of the refuge subject to the following conditions:

(i) We only allow the incidental take of coyote and fox during the refuge deer hunting season.

(ii) We require the use of non-lead ammunition when hunting coyote and fox.

(3) * * *

(v) We require the use of non-lead ammunition when hunting wild turkey.

* * * * *

(m) * * *

(1) Migratory game bird hunting. We allow hunting of waterfowl on designated areas of the refuge subject to the following conditions:

(i) Hunters may only hunt waterfowl during designated days and times. The refuge provides dates for the waterfowl hunting season in the annual refuge hunt brochure.

(ii) In designated areas, we require hunters to possess and carry a refuge hunting permit (FWS Form 3-2439) obtained from a designated third-party vendor.

(iii) We allow the use of retrieval dogs consistent with State regulations.

* * * * *

(3) Big game hunting. We allow hunting of white-tailed deer and wild turkey on designated areas of the refuge subject to the following conditions:

(i) The conditions set forth at paragraphs (m)(1)(ii) and (m)(2)(i) of this section apply.

(ii) We prohibit the possession or use of lead ammunition when hunting spring wild turkey.

(iii) Hunters may enter the refuge no earlier than 1 hour prior to the start of legal shooting time and must exit the refuge no later than 1 hour after the end of legal shooting time.

(iv) We prohibit organized deer drives. We define a “deer drive” as an organized or planned effort to pursue, drive, chase, or otherwise frighten or cause deer to move in the direction of any person(s) who is part of the organized or planned hunt and known to be waiting for the deer.

* * * * *

(n) * * *

(1) Migratory game bird hunting. We allow hunting of waterfowl, rail, coot, snipe, gallinule, dove, woodcock, and crow on designated areas of the refuge subject to the following conditions:

(i) You must obtain and possess a signed refuge hunt brochure while hunting on the refuge.

(ii) You may access the refuge from 2 hours before legal sunrise until 2 hours after legal sunset.

(iii) We allow hunting during State seasons from September 16 to March 14.

(iv) We allow the use of dogs while hunting consistent with State regulations.

(v) We prohibit the use of permanent blinds and pit blinds. You must remove portable blinds and decoys at the end of each day's hunt (see § 27.93 of this chapter).

(vi) We prohibit the possession or use of lead shot while hunting any migratory game species.

(2) Upland game hunting. We allow hunting of raccoon, opossum, fox, coyote, rabbit, and squirrel on designated areas of the refuge subject to the following conditions:

(i) The conditions set forth in paragraphs (n)(1)(i) and (iii) of this section apply.

(ii) We prohibit the hunting of upland game at night. You may access the refuge from 2 hours before legal sunrise until 2 hours after legal sunset.

(iii) We prohibit the use of pursuit dogs while hunting upland game.

(iv) You may not hunt, discharge a firearm, or nock an arrow or crossbow bolt within 100 feet (30.5 meters) of any building, road, or trail.

(v) We prohibit the use or possession of lead ammunition while hunting upland game species.

(3) Big game hunting. We allow hunting of white-tailed deer and wild turkey on designated areas of the refuge subject to the following conditions:

(i) The conditions set forth at paragraphs (n)(1)(i) and (n)(2)(iv) of this section apply.

(ii) We prohibit organized deer drives. We define a “deer drive” as an organized or planned effort to pursue, drive, chase, or otherwise frighten or cause deer to move in the direction of any person(s) who is part of the organized or planned hunt and known to be waiting for the deer.

(iii) We prohibit the use of pursuit dogs while hunting white-tailed deer and wild turkey.

(iv) We allow the use of portable tree stands, but you must remove them at the end of each day's hunt (see § 27.93 of this chapter).

(v) We allow limited hunting of turkey during designated State spring and fall seasons only when in the possession of a valid refuge turkey quota hunt permit.

(vi) We prohibit the use or possession of lead ammunition for hunting wild turkey.

* * * * *

17. Amend § 32.66 by revising paragraph (l)(3) to read as follows:

§ 32.66 Washington.

* * * * *

(l) * * *

(3) Big game hunting. We allow hunting of elk and turkey on designated areas of the refuge subject to the following conditions:

(i) Elk hunters must obtain a letter from the refuge manager assigning them a hunt unit.

(ii) Elk hunters may access the refuge no earlier than 2 hours before State legal shooting time and must leave no later than 5 hours after the end of State legal hunting hours.

(iii) Elk hunters not using approved nontoxic ammunition (see § 32.2(k)) must remove or bury the visceral remains of harvested animals.

(iv) We allow turkey hunting during the fall season only.

(v) We prohibit the possession or use of toxic shot by hunters using shotguns (see § 32.2(k)) when hunting turkey.

(vi) For turkey hunting, the condition set forth at paragraph (l)(1)(iv) of this section applies.

* * * * *

18. Amend § 32.67 by revising paragraphs (a)(1)(v), (a)(2), and (a)(3) to read as follows:

§ 32.67 West Virginia.

* * * * *

(a) * * *

(1) * * *

(v) We allow dog training and scouting 7 days prior to legal hunting seasons.

(2) Upland game hunting. We allow the hunting of ruffed grouse, squirrel, cottontail rabbit, snowshoe hare, red fox, gray fox, bobcat, woodchuck, coyote, opossum, skunk, and raccoon on designated areas of the refuge subject to the following conditions:

(i) The conditions set forth at paragraphs (a)(1)(i) and (v) of this section apply.

(ii) You may hunt coyote, raccoon, and fox at night, but you must obtain a Special Use Permit (FWS Form 3-1383-G) at the refuge headquarters before hunting.

(iii) We allow hunting in Unit 2 with the following equipment: Rifle, archery (including crossbow), shotgun, or muzzleloader. If a rifle is used in Unit 2, it must be from an elevated stand. We prohibit stalking game with a rifle.

(iv) We prohibit the hunting of upland game species from March 1 through August 31.

(v) We allow the use of dogs for hunting of raccoon, cottontail rabbit, and snowshoe hare consistent with State regulations.

(3) Big game hunting. We allow the hunting of white-tailed deer, black bear, bobcat, and turkey on designated areas of the refuge subject to the following conditions:

(i) The conditions set forth at paragraphs (a)(1)(i), (ii), and (v) and (a)(2)(iii) of this section apply.

(ii) We allow the use of dogs for hunting black bear during the firearm season.

(iii) We prohibit organized deer drives. We define a “deer drive” as an organized or planned effort to pursue, drive, chase, or otherwise frighten or cause deer to move in the direction of any person(s) who is part of the organized or planned hunt and known to be waiting for the deer.

(iv) Hunters are required to harvest an antlerless deer prior to harvesting a buck.

(v) You must label portable tree stands with your last name and State license number. You may erect your stand(s) on the first day of the hunting season. You must remove your stand(s) by the last day of the hunting season (see § 27.93 of this chapter).

* * * * *

19. Amend § 32.68 by:

a. Revising paragraphs (a)(3), (b)(3)(i) through (iii), (b)(4), (d)(2)(ii), (d)(2)(viii), (d)(3)(i), and (d)(3)(iv);

b. Adding paragraph (d)(4)(iii);

c. Revising paragraphs (e)(1), (e)(3), and (e)(4);

d. Adding paragraphs (g)(1)(iii) through (v);

e. Revising paragraphs (g)(2)(i), (g)(3), (g)(4), (j)(1), and (j)(3); and

f. Adding paragraph (j)(4)(iii).

The revisions and additions read as follows:

§ 32.68 Wisconsin.

* * * * *

(a) * * *

(3) Big game hunting. We allow hunting of white-tailed deer on designated areas of the refuge subject to the following conditions:

(i) You must remove all boats, decoys, game cameras, blinds, blind materials, stands, platforms, and other personal equipment brought onto the refuge at the end of each day's hunt (see § 27.93 of this chapter). We prohibit hunting from any stand left up overnight.

(ii) Hunters may enter the refuge no earlier than 2 hours before legal shooting hours and must exit the refuge no later than 2 hours after legal shooting hours end.

(iii) Any ground blind used during any gun deer season must display at least 144 square inches (929 square centimeters) of solid, blaze-orange or fluorescent pink material visible from all directions.

* * * * *

(b) * * *

(3) * * *

(i) You must remove all boats, decoys, game cameras, blinds, blind materials, stands, platforms, and other personal equipment brought onto the refuge at the end of each day's hunt (see § 27.93 of this chapter). We prohibit hunting from any stand left up overnight.

(ii) Hunters may enter the refuge no earlier than 2 hours before legal shooting hours and must exit the refuge no later than 2 hours after legal shooting hours end.

(iii) Any ground blind used during any gun deer season must display at least 144 square inches (929 square centimeters) of solid, blaze-orange or fluorescent pink material visible from all directions.

* * * * *

(4) Sport fishing. We allow sport fishing on designated areas of the refuge subject to the following conditions:

(i) We only allow fishing from the shoreline; we prohibit fishing from docks, piers, and other structures.

(ii) We prohibit the taking of any mussel (clam), crayfish, frog, leech, or turtle species by any method on the refuge (see § 27.21 of this chapter).

* * * * *

(d) * * *

(2) * * *

(ii) We prohibit night hunting of upland game from 30 minutes after legal sunset until 30 minutes before legal sunrise the following day.

* * * * *

(viii) Hunters may enter the refuge no earlier than 2 hours before legal shooting hours and must exit the refuge no later than 2 hours after legal shooting hours.

* * * * *

(3) * * *

(i) You must remove all boats, decoys, game cameras, blinds, blind materials, stands, platforms, and other personal equipment brought onto the refuge at the end of each day's hunt (see § 27.93 of this chapter). We prohibit hunting from any stand left up overnight.

* * * * *

(iv) The condition set forth at paragraph (d)(2)(viii) applies.

* * * * *

(4) * * *

(iii) We prohibit the taking of any mussel (clam), crayfish, frog, leech, or turtle species by any method on the refuge (see § 27.21 of this chapter).

* * * * *

(e) * * *

(1) Migratory game bird hunting. We allow hunting of migratory game birds throughout the district, except that we prohibit hunting on the Blue Wing Waterfowl Production Area (WPA) in Ozaukee County and on the Wilcox WPA in Waushara County, subject to the following conditions:

(i) We allow the use of hunting dogs, provided the dog is under the immediate control of the hunter at all times.

(ii) You must remove all boats, decoys, game cameras, blinds, blind materials, stands, platforms, and other personal equipment brought onto the refuge at the end of each day's hunt (see § 27.93 of this chapter). We prohibit hunting from any stand left up overnight.

* * * * *

(3) Big game hunting. We allow hunting of big game throughout the district, except that we prohibit hunting on the Blue Wing WPA in Ozaukee County and on the Wilcox WPA in Waushara County, subject to the following conditions:

(i) Any ground blind used during any gun deer season must display at least 144 square inches (929 square centimeters) of solid, blaze-orange or fluorescent pink material visible from all directions.

(ii) The condition set forth at paragraph (e)(1)(ii) of this section applies.

(4) Sport fishing. We allow sport fishing on WPAs throughout the district subject to the following conditions.

(i) We prohibit the use of motorized boats while fishing.

(ii) We prohibit the taking of any mussel (clam), crayfish, frog, leech, or turtle species by any method on the refuge (see § 27.21 of this chapter).

* * * * *

(g) * * *

(1) * * *

(iii) We prohibit the use of motorized boats while hunting and fishing.

(iv) During the State-approved hunting season, we allow the use of hunting dogs, provided the dog is under the immediate control of the hunter at all times.

(v) You must remove all boats, decoys, game cameras, blinds, blind materials, stands, platforms, and other personal equipment brought onto the refuge at the end of each day's hunt (see § 27.93 of this chapter). We prohibit hunting from any stand left up overnight.

(2) * * *

(i) The conditions set forth at paragraphs (g)(1)(i) through (iv) of this section apply.

* * * * *

(3) Big game hunting. We allow hunting of big game on designated areas throughout the district subject to the following conditions:

(i) We prohibit hunting on designated portions of the St. Croix Prairie WPA and the Prairie Flats-South WPA in St. Croix County.

(ii) Any ground blind used during any gun deer season must display at least 144 square inches (929 square centimeters) of solid-blaze-orange or fluorescent pink material visible from all directions.

(iii) The conditions set forth at paragraphs (g)(1)(iii) through (v) of this section apply.

(4) Sport fishing. We allow sport fishing on WPAs throughout the district subject to the following conditions.

(i) We prohibit the taking of any mussel (clam), crayfish, frog, leech, or turtle species by any method on the refuge (see § 27.21 of this chapter).

(ii) The condition set forth at paragraph (g)(1)(iii) of this section applies.

* * * * *

(j) * * *

(1) Migratory game bird hunting. We allow hunting of waterfowl on designated areas of the refuge subject to the following conditions:

(i) You must remove all boats, decoys, game cameras, blinds, blind materials, stands, platforms, and other personal equipment brought onto the refuge at the end of each day's hunt (see § 27.93 of this chapter). We prohibit hunting from any stand left up overnight.

(ii) Hunters may enter the refuge no earlier than 2 hours before legal shooting hours and must exit the refuge no later than 2 hours after legal shooting hours end.

(iii) We prohibit the use of motorized boats while hunting and fishing.

* * * * *

(3) Big game hunting. We allow hunting of white-tailed deer on designated areas of the refuge subject to the following conditions:

(i) We allow archery deer hunting to take place on refuge lands owned by the Service that constitute tracts greater than 20 acres (8 hectares).

(ii) The conditions set forth at paragraphs (j)(1)(i) and (ii) of this section apply.

(4) * * *

(iii) The condition set forth at paragraph (j)(1)(iii) applies.

* * * * *

Shannon A. Estenoz,
Assistant Secretary for Fish and Wildlife and Parks.

[FR Doc. 2022-12463 Filed 6-8-22; 8:45 am]

BILLING CODE 4333-15-P